DEPARTMENT OF DEFENSE

Department of the Army

Availability for Non-Exclusive, Exclusive, or Partially Exclusive Licensing of U.S. Provisional Patent Application Concerning Portable Trapeze System

AGENCY: Department of the Army, DoD.

ACTION: Notice.

SUMMARY: Announcement is made of the availability for licensing of the invention set forth in U.S. Provisional Patent Application Serial No. 61/045,184 entitled “Portable Trapeze System,” filed April 15, 2008. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The invention relates to a portable orthopedic trapeze system. In particular, the invention relates to portable trapeze bars and kits that may be assembled, disassembled, sized, and configured for use with hospital beds in non-fixed facilities. The invention consists of a plurality of aluminum poles connected or clamped to form a frame for suspending a tether.

Brenda S. Bowen,
Army Federal Register Liaison Officer.

[FR Doc. E8-28811 Filed 12-4-08; 8:45 am]

BILLING CODE 3710-08-P